DEPARTMENT OF COMMERCE

National Oceanic and Atmospheric Administration

[I.D. 071105B]

Pacific Fishery Management Council; Public Meetings

AGENCY: National Marine Fisheries Service (NMFS), National Oceanic and Atmospheric Administration (NOAA), Commerce.

ACTION: Notice of public meetings.

SUMMARY: The Pacific Fishery Management Council's (Council) Highly Migratory Species Management Team (HMSMT) and Highly Migratory Species Advisory Subpanel (HMSAS) will hold work sessions, which are open to the public.

DATES: The HMSMT work sessions will be Wednesday, August 3, 2005, from 1 p.m. until 5 p.m. and Friday, August 5, 2005, from 9 a.m. until business for the day is completed. The HMSMT will hold a joint work session with the HMSAS on Thursday, August 4, 2005, from 8 a.m. until 5 p.m.

ADDRESSES: The work sessions will be held at the United States Tuna Foundation offices, Conference Room, 1 Tuna Lane, San Diego, CA 92101; telephone: (619) 233-6407.

Council address: Pacific Fishery Management Council, 7700 NE Ambassador Place, Suite 200, Portland, OR 97220-1384.

FOR FURTHER INFORMATION CONTACT: Dr. Kit Dahl, Pacific Fishery Management Council; telephone: (503) 820-2280.

SUPPLEMENTARY INFORMATION: The main purpose of these work sessions is for the HMSMT and HMSAS to develop a preliminary range of alternatives for the modification of the annual August 15 through November 15 prohibition on drift gillnet fishing in federal and state waters in Monterey Bay, CA, and vicinity north to the 45° N latitude intersect with the Oregon Coast (66 FR 44549). This time/area closure was first implemented in 2001 based on the reasonable and prudent alternatives in a biological opinion issued by NMFS on October 23, 2000, consequent of a formal consultation under section 7 of the Endangered Species Act (ESA). The primary purpose of this time/area closure is to reduce the incidental take of endangered leatherback sea turtles (Dermochelys coriacea) and threatened loggerhead sea turtles (Caretta caretta).

More recent information suggests that the time/area closure could be modified to improve fishing opportunity without increasing the incidental take of these sea turtles. The range of alternatives for modification of this time/area closure, if adopted by the Council, will be evaluated in an environmental assessment or environmental impact statement, as required by the National Environmental Policy Act. Any preferred alternative chosen by the Council would also be subject to a reinitiation of consultations under section 7 of the ESA. A second topic to be discussed during these work sessions is the modification of regulations which currently prohibit holders of a permit issued under the HMS fishery management plan from targeting swordfish on the high seas with pelagic longline gear or landing more than 10 swordfish on the West Coast. As with the aforementioned drift gillnet fishery time/area closure, these measures are consequent of a biological opinion focusing on the incidental take of the same two species of sea turtles. As part of these work sessions the HMSMT and HMSAS may begin considering alternatives which would allow prosecution of a pelagic longline fishery for swordfish while not increasing the overall incidental take of these ESA-listed sea turtles. These HMSMT and HMSAS work sessions are for the purpose of developing information for the Council's consideration at a future Council meeting; no management actions will be decided by the HMSMT or HMSAS at these work sessions.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Dated: July 12, 2005
Alan D. Risenhoover,
Acting Director, Office of Sustainable Fisheries, National Marine Fisheries Service.

[FR Doc. E5-3776 Filed 7-14-05; 8:45 am]

BILLING CODE 3510-22-S